DEPARTMENT OF TRANSPORTATION

Federal Aviation Administration

[Summary Notice No. PE-2002-70]

Petitions for Exemption; Summary of Petitions Received

AGENCY: Federal Aviation Administration (FAA), DOT.

ACTION: Notice of petition for exemption received.

SUMMARY: Pursuant to FAA's rulemaking provisions governing the application, processing, and disposition of petitions for exemption, part 11 of Title 14, Code of Federal Regulations (14 CFR), this notice contains a summary of a certain petition seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before February 3, 2003.

ADDRESSES: Send comments on the petition to the Docket Management System, U.S. Department of Transportation, Room Plaza 401, 400 Seventh Street, SW., Washington, DC 20590-0001. You must identify the docket number FAA-2002-13875-1 at the beginning of your comments. If you wish to receive confirmation that the FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the Nassif Building at the Department of Transportation at the above address. Also, you may review public dockets on the Internet at http://dms.dot.gov.

FOR FURTHER INFORMATION CONTACT: Mr. Mark S. Orr (816-329-4151), Small Airplane Directorate (ACE-111), Federal Aviation Administration, 901 Locust, Kansas City, MO 64106; or Vanessa Wilkins (202-267-8029), Office of Rulemaking (ARM-1), Federal Aviation Administration, 800 Independence Avenue, SW., Washington, DC 20591.

This notice is published pursuant to 14 CFR 11.85 and 11.91.

Issued in Washington, DC, on January 3, 2003.
Donald P. Byrne,
Assistant Chief Counsel for Regulations.

Petitions for Exemption

Docket No.: FAA-2002-13875-1.

Petitioner: West Pacific Air, LLC.

Section of 14 CFR Affected: 14 CFR part 23, § 23.973(f).

Description of Relief Sought: West Pacific Air, LLC seeks exemption from 14 CFR 23.973(f) to install Pratt & Whitney Canada PT6 engines in Beech Model A36, A36TC, and B36TC airplanes. For the Beech Model A36, A36TC, and B36TC airplanes, the present fuel filler inside diameter is 2.375 inches to preclude the introduction of turbine engine fuel (Jet-A or similar) into the fuel system that supplies a reciprocating engine. The exemption will permit West Pacific Air, LLC to install Pratt & Whitney Canada PT6 engines in Beech Model airplanes without increasing the diameter of the fuel filler openings per § 23.973(f). The requested exemption from strict compliance with the requirement of 14 CFR part 23, § 23.973(f), is based on the following points: the large filler diameter will not preclude the introduction of Av-gas in a system intended for Jet-A, Av-gas is an approved emergency fuel for the PT6A-21 and -34 engines installed by this project; consequently it is not possible to misfuel this aircraft; all fuel tank fillers will be placarded for Jet-A, which will fulfill the goal of providing a visual cue for the use of Jet-A-fuel; and the modified fuel system will be tested to the pressure requirements associated with the worse case fuel (100LL Av-gas) to ensure that a mistaken introduction of this fuel will not have a detrimental effect on engine performance or safety of flight.

[FR Doc. 03-657 Filed 1-10-03; 8:45 am]

BILLING CODE 4910-13-M